CONSUMER PRODUCT SAFETY COMMISSION

[Docket No. CPSC-2009-0073]

Agency Information Collection Activities; Submission for OMB Review; Comment Request—Virginia Graeme Baker Pool and Spa Safety Act; Compliance Form

AGENCY: Consumer Product Safety Commission.

ACTION: Notice.

SUMMARY: As required by the Paperwork Reduction Act of 1995, the Consumer Product Safety Commission (CPSC) announces a submission to the Office of Management and Budget (OMB), requesting an extension of approval for a collection regarding a form used to verify whether pools and spas are in compliance with the Virginia Graeme Baker Pool and Spa Safety Act. In the Federal Register of June 14, 2019, the CPSC published a notice to announce the agency's intention to seek extension of approval of the collection of information. CPSC received one comment, and that comment supported the information collection. Therefore, by publication of this notice, CPSC announces that it has submitted to the OMB a request for extension of approval of that collection of information, without change.

DATES: Written comments on this request for extension of approval of information collection requirements should be submitted by September 30, 2019.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2009-0073.

FOR FURTHER INFORMATION CONTACT: Bretford Griffin, Consumer Product Safety Commission, 4330 East-West Highway, Bethesda, MD 20814; (301) 504-7037, or by email to: bgriffin@cpsc.gov.

SUPPLEMENTARY INFORMATION: CPSC seeks to renew the following currently approved collection of information. CPSC previously published a notice announcing the agency's intention to seek extension of approval of the collection of information. 84 FR 27772 (June 14, 2019). CPSC received only one comment, and it supported the information collection.

Title: Virginia Graeme Baker Pool and Spa Safety Act Verification of Compliance Form.

OMB Number: 3041-0142.

Type of Review: Renewal of collection.

Frequency of Response: On occasion.

Affected Public: Public pools and spa facilities.

Estimated Number of Respondents: 100 pools or facilities.

Estimated Time per Response: 3 hours to inspect a pool or spa facility.

Total Estimated Annual Burden: The total testing burden hours are 300 (100 inspections × 3 hours per inspection). The total annual cost of time to inspect all facilities is estimated at $17,500.

General Description of Collection: On December 19, 2008, the Virginia Graeme Baker Pool and Spa Safety Act (Act) became effective (Pub. L. 110-140). The Act applies to public swimming pools and spas, and it requires that each swimming pool and spa drain cover manufactured, distributed, or entered into commerce in the United States shall conform to the entrapment protection standards of the ASME/ANSI A112.19.8 performance standard or any successor standard regulating such swimming pool or drain cover under section 1404(b) of the Act.

On August 5, 2011, the CPSC published a final rule incorporating by reference ANSI/APSP-16 2011 as the successor standard, effective September 6, 2011. 76 FR 47436. On May 24, 2019, the CPSC published a direct final rule incorporating by reference ANSI/APSP-16 2017 as the next successor standard. ANSI/APSP-16 2017 will become effective November 24, 2020. 84 FR 24021. The Act requires that, in addition to having the anti-entrapment devices or systems, each public pool and spa in the United States with a single main drain other than an unblockable drain shall be equipped with one or more of the following devices or systems designed to prevent entrapment by pool or spa drains including a safety vacuum release system, suction-limiting vent system, gravity drainage system, automatic pump shut-off system or drain disablement. The CPSC will collect information through the verification of compliance form to identify drain covers, pools, and spas that do not meet the performance requirements in ANSI/APSP-16 2011 (or, after November 24, 2020, its successor standard, ANSI/APSP-16 2017) and the Act.

Alberta E. Mills,
Secretary, Consumer Product Safety Commission.

[FR Doc. 2019-18747 Filed 8-29-19; 8:45 am]

BILLING CODE 6355-01-P